DEPARTMENT OF LABOR

Occupational Safety and Health Administration

[Docket Nos. OSHA-2005-022, OSHA-2006-0028, OSHA-2006-0029, OSHA-2006-0040, OSHA-2006-0042, OSHA-2007-0039, OSHA-2007-0041, OSHA-2007-0042, OSHA-2009-0025, OSHA-2009-0026, OSHA-2009-0027]

Modifications to the Scope of NRTL Recognition

AGENCY: Occupational Safety and Health Administration (OSHA), Labor.

ACTION: Notice.

SUMMARY: This notice modifies the scopes of recognition of several Nationally Recognized Testing Laboratories resulting from the withdrawal of test standards by standards-developing organizations.

DATES: Effective Date: The effective date of this notice is September 14, 2009.

FOR FURTHER INFORMATION CONTACT: MaryAnn Garrahan, Director, Office of Technical Programs and Coordination Activities, NRTL Program, Occupational Safety and Health Administration, U.S. Department of Labor, 200 Constitution Avenue, NW., Room N-3655, Washington, DC 20210; phone: (202) 693-2110.

SUPPLEMENTARY INFORMATION:

I. Notice of Modifications

In this notice, the Occupational Safety and Health Administration (OSHA) is modifying the scopes of recognition of several Nationally Recognized Testing Laboratories (NRTLs). Specifically, one or more of the test standards that OSHA currently includes in the scopes of recognition of these NRTLs are no longer “appropriate test standards” under 29 CFR 1910.07(c) because the standards-developing organizations that wrote and published the standards withdrew the standards. Consequently, OSHA is deleting the test standards from the scope of recognition of each affected NRTL. Section IV of this notice (“Modifications to Each NRTL's Scope of Recognition”) identifies the affected NRTLs.

To substitute other test standards for the standards being removed, OSHA's policy permits NRTLs to request, or OSHA to provide, recognition for comparable test standards, i.e., other appropriate test standards covering comparable product testing. The table in Section III (“Withdrawn Test Standards and Replacement Test Standards”) identifies the test standards removed from the scopes of recognition of the affected NRTL, under the heading “Withdrawn Standards,” while the replacement standards for the withdrawn standards, if applicable, are provided under the heading “Replacement Standards.” As shown in this table, many of the test standards being removed have no comparable replacement standard. In these cases, if an NRTL or other party has information that a comparable replacement standard exists, it may provide this information to OSHA; if OSHA concurs, it will add the standard to the scope of recognition of the affected NRTL(s).

OSHA will incorporate the modifications specified by this notice on its informational Web page for each NRTL. This page details OSHA's official scope of recognition for the NRTL, including the standards the NRTL may use to certify products under OSHA's NRTL Program. Access to these Web pages is available through http://www.osha.gov/dts/otpca/nrtl/index.html.

II. Summary of OSHA's NRTL Requirements

OSHA recognition of any NRTL signifies that the organization meets the legal requirements in § 1910.7 of Title 29, Code of Federal Regulations (i.e., 29 CFR 1910.7). Recognition is an acknowledgment that the organization can perform independent safety testing and certification of the specific products covered within its scope of recognition; recognition is not a delegation or grant of government authority. Recognition allows employers to use products certified by an NRTL to meet OSHA standards that require testing and certification.

OSHA specifies a scope of recognition for each NRTL that includes a list of product-safety test standards that the NRTL may use in testing and certifying (i.e., approving) products; NRTLs must demonstrate that the products conform to “appropriate test standards,” as defined under 29 CFR 1910.7(c). “Appropriate test standards” are consensus-based product-safety test standards developed and maintained by U.S.-based standards-developing organizations (SDOs). These test standards differ from OSHA standards in that OSHA standards are general requirements that employers must meet, while test standards specify technical safety requirements that particular types of products must meet.

Occasionally, an SDO withdraws existing test standards or adopts replacement test standards. In such cases, OSHA can no longer consider the withdrawn standards as “appropriate,” and, therefore, can no longer include these standards in the NRTLs' scopes of recognition.

III. Withdrawn Test Standards and Replacement Test Standards

The table below lists the withdrawn standards and the replacement standards identified by the SDO for the withdrawn standards, as applicable.

¹ OSHA already includes this standard in the scopes of recognition of many NRTLs. It is listed below in section IV of this notice as a Replacement Standard only when an NRTL's scope does not now include the standard.

² NRTLs currently recognized for UL 1004—Electric Motors may request recognition for UL 1004-1 by providing the necessary documentation that demonstrates their technical capability to perform any testing and evaluation covered in UL 1004-1 but not in UL 1004. If it determines that the NRTL has the capability, OSHA will grant the request and update the NRTL's scope of recognition.

Withdrawn test standards | Replacement test standards
ANSI C37.38—Gas Insulated, Metal Enclosed Disconnecting, Interrupter and Grounding Switches | None known.
ANSI C37.72—Manually Operated Dead Front, Pad-Mounted Switchgear with Load Interrupting Switches and Separable Connectors for Alternating Current System | None known.
ANSI C57.12.28—Switchgear and Transformers Pad-Mounted Equipment Enclosure Integrity | None known.
ANSI ICS 2—Industrial Control Devices, Controllers and Assemblies | None known.
UL 3—Flexible Nonmetallic Tubing for Electric Wiring | None known.
ANSI/NFPA 11A—Medium and High Expansion Foam Systems | None known.
UL 45—Portable Electric Tools | UL 60745-1—Hand-Held Motor-Operated Electric Tools—Safety—Part 1: General Requirements.
ANSI/NFPA 72—Installation, Maintenance, and Use of Protective Signaling Systems | None known.
UL 298—Portable Electric Hand Lamps | UL 153—Portable Electric Luminaires ¹
UL 351—Rosettes | None known.
UL 486B—Wire Connectors. | UL 486A-486B—Wire Connectors.
UL 511—Porcelain Electrical Cleats, Knobs, and Tubes | None known.
UL 1004A—Fire Pump Motors | UL 1004-1—Rotating Electrical Machines—General Requirements ²; and UL 1004-5—Fire Pump Motors.
UL 1020—Thermal Cutoffs for Use in Electrical Appliances and Components | UL 60691—Thermal-Links—Requirements and Application Guide.
UL 1207—Sewage Pumps for Use in Hazardous (Classified) Locations | None known.
UL 1262—Laboratory Equipment | UL 61010A-1 ¹—Electrical Equipment For Laboratory Use; Part 1: General Requirements.
UL 1585—Class 2 and Class 3 Transformers. | UL 5085-1—Low Voltage Transformers—Part 1: General Requirements; and UL 5085-3—Low Voltage Transformers—Part 3: Class 2 and Class 3 Transformers.
UL 2083—Halon 1301 Recovery/Recycling Equipment | None known.
UL 2125—Motor Operated Air Compressors for Use in Sprinkler Systems | None known.
UL 3044—Surveillance Closed Circuit Television Equipment | None known.

IV. Modificationsto Each NRTL's Scope of Recognition

Canadian Standards Association (CSA)

(Docket No. OSHA-2006-0042)

Withdrawn Test Standards

UL 3—Flexible Nonmetallic Tubing for Electric Wiring

UL 45—Portable Electric Tools

UL 298—Portable Electric Hand Lamps

UL 351—Electrical Rosettes

UL 486B—Wire Connectors

UL 511—Porcelain Electrical Cleats, Knobs, and Tubes

UL 1020—Thermal Cutoffs for Use in Electrical Appliances and Components

UL 1207—Sewage Pumps for Use in Hazardous (Classified) Locations

UL 1262—Laboratory Equipment

UL 1585—Class 2 and Class 3 Transformers

UL 2083—Halon 1301 Recovery/Recycling Equipment

UL 2125—Motor-Operated Air Compressors for Use in Sprinkler Systems (Note: The title in OSHA's web page is shown incorrectly as Vehicle Battery Adapters.)

Replacement Test Standards

UL 486A-486B—Wire Connectors

UL 5085-1—Low Voltage Transformers—Part 1: General Requirements

UL 5085-3—Low Voltage Transformers—Part 3: Class 2 and Class 3 Transformers

UL 60745-1—Hand-Held Motor-Operated Electric Tools—Safety—Part 1: General Requirements

UL 60691—Thermal-Links—Requirements and Application Guide

Curtis-Straus LLC

(Docket No. OSHA-2009-0026)

Withdrawn Test Standard

UL 3111-1—Electrical Measuring and Test Equipment, Part 1: General Requirements

Replacement Test Standard

UL 61010B-1—Electrical Measuring and Test Equipment; Part 1: General Requirements

FM Approvals LLC

(Docket No. OSHA-2007-0041)

Withdrawn Test Standards

ANSI ICS 2—Industrial Control Devices, Controllers and Assemblies

ANSI/NFPA 11A—Medium and High Expansion Foam Systems

ANSI/NFPA 72—Installation, Maintenance, and Use of Protective Signaling Systems

UL 1207—Sewage Pumps for Use in Hazardous (Classified) Locations

UL 1262—Laboratory Equipment

Replacement Test Standard

UL 61010A-1—Electrical Equipment For Laboratory Use; Part 1: General Requirements

Intertek Testing Services NA, Inc.

(Docket No. OSHA-2007-0039)

Withdrawn Test Standards

ANSI C37.38—Gas-Insulated, Metal-Enclosed Disconnecting, Interrupter and Grounding Switches

ANSI ICS 2—Industrial Control Devices, Controllers and Assemblies

UL 3—Flexible Nonmetallic Tubing for Electric Wiring

ANSI/NFPA 11A—Medium and High Expansion Foam Systems

UL 45—Portable Electric Tools

ANSI/NFPA 72—Installation, Maintenance, and Use of Protective Signaling Systems

UL 298—Portable Electric Hand Lamps

UL 486B—Wire Connectors

UL 1020—Thermal Cutoffs for Use in Electrical Appliances and Components

UL 1207—Sewage Pumps for Use in Hazardous (Classified) Locations

UL 1262—Laboratory Equipment

UL 1585—Class 2 and Class 3 Transformers

UL 2083—Halon 1301 Recovery/Recycling

UL 2125—Motor-Operated Air Compressors for Use in Sprinkler Systems

UL 3044—Surveillance Closed Circuit Television Equipment

Replacement Test Standards

UL 486A-486B—Wire Connectors

UL 5085-1—Low Voltage Transformers—Part 1: General Requirements

UL 5085-3—Low Voltage Transformers—Part 3: Class 2 and Class 3 Transformers

UL 60745-1—Hand-Held Motor-Operated Electric Tools—Safety—Part 1: General

UL 60691—Thermal-Links—Requirements and Application Guide (for UL 1020)

MET Laboratories, Inc.

(Docket No. OSHA-2006-0028)

Withdrawn Test Standards

UL 45—Portable Electric Tools

UL 298—Portable Electric Hand Lamps

UL 1262—Laboratory Equipment

UL 1585—Class 2 and Class 3 Transformers

UL 3044—Surveillance Closed Circuit Television Equipment

Replacement Test Standards

UL 5085-1—Low Voltage Transformers—Part 1: General Requirements

UL 5085-3—Low Voltage Transformers—Part 3: Class 2 and Class 3 Transformers

UL 60745-1—Hand-Held Motor-Operated Electric Tools—Safety—Part 1: General

SGS U.S. Testing Company, Inc.

(Docket No. OSHA-2006-0040)

Withdrawn Test Standard

UL 3—Flexible Nonmetallic Tubing for Electric Wiring

Replacement Test Standards

None

TUV America, Inc.

(Docket No. OSHA-2009-0027)

Withdrawn Test Standards

UL 45—Portable Electric Tools

UL 1585—Class 2 and Class 3 Transformers

Replacement Standards

UL 5085-1—Low Voltage Transformers—Part 1: General Requirements

UL 5085-3—Low Voltage Transformers—Part 3: Class 2 and Class 3 Transformers

UL 60745-1—Already in TUVAM's scope

TUV Product Services GmbH

(Docket No. OSHA-2005-022)

Withdrawn Test Standards

UL 298—Portable Electric Hand Lamps

UL 1585—Class 2 and Class 3 Transformers

Replacement Test Standards

UL 153—Portable Electric Luminaires

UL 5085-1—Low Voltage Transformers—Part 1: General Requirements

UL 5085-3—Low Voltage Transformers—Part 3: Class 2 and Class 3 Transformers

TUV Rheinland of North America, Inc.

(Docket No. OSHA-2007-0042)

Withdrawn Test Standards

UL 45—Portable Electric Tools

ANSI/NFPA 72—Installation, Maintenance, and Use of Protective Signaling Systems

UL 298—Portable Electric Hand Lamps

UL 1262—Laboratory Equipment

UL 1585—Class 2 and Class 3 Transformers

UL 3044—Surveillance Closed Circuit Television Equipment

UL 60730-1—Automatic Electrical Controls for Household and Similar Use; Part 1: General Requirements ³

³ Previously withdrawn— see http://www.osha.gov/dts/otpca/nrtl/stdsderecgn.html, Note “*” concerning notice published on January 6, 2003 (68 FR 579-583).

Replacement Test Standards

UL 5085-1—Low Voltage Transformers—Part 1: General Requirements

UL 5085-3—Low Voltage Transformers—Part 3: Class 2 and Class 3 Transformers

UL 60745-1—Hand-Held Motor-Operated Electric Tools—Safety—Part 1: General Requirements

Underwriters Laboratories Inc.

(Docket No. OSHA-2009-0025)

Withdrawn Test Standards

ANSI/IEEE C37.38—Gas-Insulated, Metal-Enclosed Disconnecting, Interrupter and Grounding Switches

ANSI C37.72—Manually-Operated Dead-Front, Pad-Mounted Switchgear with Load-Interrupting Switches and Separable Connectors for Alternating-Current System

ANSI C57.12.28—Switchgear and Transformers—Pad-Mounted Equipment—Enclosure Integrity

UL 3—Flexible Nonmetallic Tubing for Electric Wiring

ANSI/NFPA 11A—Medium and High Expansion Foam Systems

UL 45—Portable Electric Tools

ANSI/NFPA 72—Installation, Maintenance, and Use of Protective Signaling Systems

UL 298—Portable Electric Hand Lamps

UL 351—Electrical Rosettes

UL 486B—Wire Connectors

UL 511—Porcelain Electrical Cleats, Knobs, and Tubes

UL 1004A—Fire Pump Motors

UL 1020—Thermal Cutoffs for Use in Electrical Appliances and Components

UL 1207—Sewage Pumps for Use in Hazardous (Classified) Locations

UL 1262—Laboratory Equipment

UL 1585—Class 2 and Class 3 Transformers

UL 2083—Halon 1301 Recovery/Recycling Equipment

UL 2125—Motor-Operated Air Compressors for Use in Sprinkler Systems

UL 3044—Surveillance Closed Circuit Television Equipment

Replacement Test Standards

UL 486A-486B—Wire Connectors

UL 1004-5—Fire Pump Motors

UL 5085-1—Low Voltage Transformers—Part 1: General Requirements

UL 5085-3—Low Voltage Transformers—Part 3: Class 2 and Class 3 Transformers

UL 60745-1—Hand-Held Motor-Operated Electric Tools—Safety—Part 1: General Requirements

UL 60691—Thermal-Links—Requirements and Application Guide

Wyle Laboratories, Inc.

(Docket No. OSHA-2006-0029)

Withdrawn Test Standards

UL 45—Portable Electric Tools

UL 486B—Wire Connectors

UL 1262—Laboratory Equipment

UL 1585—Class 2 and Class 3 Transformers

Replacement Test Standards

UL 486A-486B—Wire Connectors

UL 5085-1—Low Voltage Transformers—Part 1: General Requirements

UL 5085-3—Low Voltage Transformers—Part 3: Class 2 and Class 3 Transformers

UL 60745-1—Hand-Held Motor-Operated Electric Tools—Safety—Part 1: General Requirements

V. Authority and Signature

Jordan Barab, Acting Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 5-2007 (72 FR 31160), and 29 CFR Part 1911.

Signed at Washington, DC, on September 4th, 2009.
Jordan Barab,
Acting Assistant Secretary for Occupational Safety and Health.

[FR Doc. E9-22004 Filed 9-11-09; 8:45 am]

BILLING CODE 4510-26-P